DEPARTMENT OF AGRICULTURE

Forest Service

Lost River and Challis-Yankee Fork Ranger Districts, Salmon-Challis National Forest; ID; Lost River/Lemhi Grazing Allotments Environmental Impact Statement

AGENCY: Forest Service, USDA.

ACTION: Withdrawal of notice of intent to prepare an environmental impact statement.

SUMMARY: The Forest Service proposed to prepare an Environmental Impact Statement for the Lost River/Lemhi Grazing Allotments on National Forest System lands managed by the Salmon-Challis National Forest. This project has been cancelled. This notice terminates the environmental analysis process for the Lost River/Lemhi Grazing Allotments.

DATES: The Notice of Intent to prepare the Lost River/Lemhi Grazing Allotment EIS was published in the Federal Register on July 31, 2003, Vol. 68, No. 147. The Notice of Availability for the Draft EIS was published in the Federal Register on November 3, 2006, Vol. 71, No. 213 and amended on December 15, 2006, Vol. 71, No. 241. This project has been cancelled.

FOR FURTHER INFORMATION CONTACT: Karen E. Dunlap, Forest Environmental Coordinator, Public Lands Center, 1206 S. Challis Street, Salmon, ID 83467; telephone: 208-756-5192; fax: 208-756-5555.

Individuals who use telecommunication devices for the deaf (TDD) may call the Federal Information Relay Service (FIRS) at 1-800-877-8339 between 8 a.m. and 8 p.m., Eastern Time, Monday through Friday.

Responsible Official

Frank Guzman, Forest Supervisor. Salmon-Challis National Forest, 1206 S. Challis St., Salmon, ID 83467.

Dated: May 6, 2011.
Frank V. Guzman,
Forest Supervisor.

[FR Doc. 2011-12420 Filed 5-20-11; 8:45 am]

BILLING CODE 3410-11-M